DEPARTMENT OF DEFENSE

Department of the Navy

Meeting of the Board of Advisors (BOA) to The President of the Naval War College (NWC) Subcommittee

AGENCY: Department of the Navy, DoD.

ACTION: Notice.

SUMMARY: Pursuant to the provisions of The Federal Advisory Committee Act (Pub. L. 92-463, as amended), notice is hereby given that the following meeting of the Board of Advisors to the President of the Naval War College will be held. This meeting will be open to the public.

DATES: The meeting will be held on Friday, April 8, 2016 from 8:00 a.m. to 4:00 p.m. Eastern Time Zone.

ADDRESSES: The meeting will be held at the U.S. Naval War College, 686 Cushing Road, Newport, RI.

FOR FURTHER INFORMATION CONTACT: Ms. Jaye Panza, Designated Federal Official, 1 University Circle, Code 00G, Monterey, CA, 93943-5001, telephone number 831-656-2514.

SUPPLEMENTARY INFORMATION: The purpose of the Board is to advise and assist the President, NWC, in educational and support areas, providing independent advice and recommendations on items such as, but not limited to, organizational management, curricula, methods of instruction, facilities, and other matters of interest. The agenda is as follows:

0800-0830 Welcome and Morning Refreshments

0830-1000 College Update w/Deans Part

1015-1130 S&P/JMO Seminars (T)

1145-1315 Lunch w/Students & Faculty (Mahan Rotunda)

1315-1400 Tour ending at Learning Commons (LC)

1400-1430 NWC Foundation

1430-1600 College Update Part 2

Strategic Issues, High Velocity Learning, Re-inventing the College: Gaming & Simulation, High Velocity Learning, Prioritizing our Missions, Prioritizing Resources

1600-1630 Board Business

Individuals without a DoD Government Common Access Card require an escort at the meeting location. For access, information, or to send written statements for consideration at the committee meeting must contact Mr. Richard R. Menard, Chief of Staff to the Provost, Naval War College, 686 Cushing Road, Newport, RI 02841-1207 or by fax 401-841-1297 by March 31, 2016.

Dated: February 29 2016.
N.A. Hagerty-Ford,
Commander, Judge Advocate General's Corps, U.S. Navy, Federal Register Liaison Officer.

[FR Doc. 2016-05377 Filed 3-9-16; 8:45 am]

BILLING CODE 3810-FF-P